DEPARTMENT OF EDUCATION

Submission for OMB Review; Comment Request

AGENCY: Department of Education.

SUMMARY: The Leader, Information Management Case Services Team, Regulatory Information Management Services, Office of the Chief Information Officer invites comments on the submission for OMB review as required by the Paperwork Reduction Act of 1995.

DATES: Interested persons are invited to submit comments on or before August 18, 2005.

ADDRESSES: Written comments should be addressed to the Office of Information and Regulatory Affairs, Attention: Carolyn Lovett, Desk Officer, Department of Education, Office of Management and Budget, 725 17th Street, NW., Room 10235, New Executive Office Building, Washington, DC 20503 or faxed to (202) 395-6974.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Leader, Information Management Case Services Team, Regulatory Information Management Services, Office of the Chief Information Officer, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: July 12, 2005.
Angela C. Arrington,
Leader, Information Management Case Services Team, Regulatory Information Management Services, Office of the Chief Information Officer.

Institute of Education Sciences

Type of Review: Revision.

Title: FRSS on Public School Principal's Perceptions of Their School Facilities: Fall 2005.

Frequency: On occasion.

Affected Public: State, Local, or Tribal Gov't, SEAs or LEAs.

Reporting and Recordkeeping Hour Burden:

Responses: 1,200.

Burden Hours: 300.

Abstract: The Quick Response Information System consists of two survey system components—Fast Response Survey System (FRSS) for schools, districts, libraries and the Postsecondary Education Quick Information System (PEQIS) for postsecondary institutions. This survey will go to 1200 public elementary and secondary school principals. It will provide current information about principals' satisfaction with various environmental factors in their schools, the extent to which they perceive those factors as interfering with the ability of the school to deliver instruction, the use of portable buildings and whether the school is overcrowded.

Requests for copies of the information collection submission for OMB review may be accessed from http://edicsweb.ed.gov, by selecting the “Browse Pending Collections” link and by clicking on link number 2816. When you access the information collection, click on “Download Attachments” to view. Written requests for information should be addressed to U.S. Department of Education, 400 Maryland Avenue, SW., Potomac Center, 9th Floor, Washington, DC 20202-4700. Requests may also be electronically mailed to the Internet address OCIO_RIMG@ed.gov or faxed to 202-245-6623. Please specify the complete title of the information collection when making your request.

Comments regarding burden and/or the collection activity requirements should be directed to Kathy Axt at her e-mail address Kathy.Axt@ed.gov. Individuals who use a telecommunications device for the deaf (TDD) may call the Federal Information Relay Service (FIRS) at 1-800-877-8339.

Institute of Education Sciences

Type of Review: Revision.

Title: National Assessment of Educational Progress 2006 Wave 3 U.S. History, Civics, Economics and Math Background, and School Questionnaires.

Frequency: On occasion.

Affected Public: Individuals or household; State, Local, or Tribal Gov't, SEAs or LEAs.

Reporting and Recordkeeping Hour Burden: Responses—66,450. Burden Hours—16,831.

Abstract: This submittal applies to the questionnaires for students on U.S. History, Civics, and Economics; for Teachers on U.S. History, Civics, Economics and Mathematics; and School Questionnaires including U.S. History, Civics, Economics, and Charter School Questions.

Requests for copies of the information collection submission for OMB review may be accessed from http://edicsweb.ed.gov, by selecting the “Browse Pending Collections” link and by clicking on link number 2813. When you access the information collection, click on “Download Attachments” to view. Written requests for information should be addressed to U.S. Department of Education, 400 Maryland Avenue, SW., Potomac Center, 9th Floor, Washington, DC 20202-4700. Requests may also be electronically mailed to the Internet address OCIO_RIMG@ed.gov or faxed to 202-245-6623. Please specify the complete title of the information collection when making your request.

Comments regarding burden and/or the collection activity requirements should be directed to Kathy Axt at her e-mail address Kathy.Axt@ed.gov. Individuals who use a telecommunications device for the deaf (TDD) may call the Federal Information Relay Service (FIRS) at 1-800-877-8339.

Office of Planning, Evaluation and Policy Development

Type of Review: Reinstatement.

Title: Study of the Implementation of Research-Based Programs and Practices to Prevent Youth Substance Abuse and School Crime.

Frequency: One time.

Affected Public: State, Local, or Tribal Gov't, SEAs or LEAs.

Reporting and Recordkeeping Hour Burden: Responses:—14,751. Burden Hours—6,992.

Abstract: This study will examine the proportion of Safe and Drug-Free Schools and Communities grantees that are implementing research-based programs and practices that are found to be effective and the proportion of these programs that are implementing the research with a high degree of fidelity. Specifically the study will investigate the following two research questions:

(1) What proportion of drug and/or violence prevention programs nationally, and in the SDFSC program, are implementing research-based drug and/or violence prevention programs and practices that scientific evidence has shown produce positive outcomes?

(2) To what extent nationally, and in the SDFSC program, are drug and/or violence prevention programs that are implementing research-based programs and practices doing so with fidelity to the research on which they are based?

To address these questions, this study is conducting a systematic review of research to identify effective programs and practices and will survey a nationally-representative sample of districts, schools, and Governors programs to assess the implementation quality of prevention programs and practices.

Requests for copies of the information collection submission for OMB review may be accessed from http://edicsweb.ed.gov, by selecting the “Browse Pending Collections” link and by clicking on link number 2821. When you access the information collection, click on “Download Attachments “ to view. Written requests for information should be addressed to U.S. Department of Education, 400 Maryland Avenue, SW., Potomac Center, 9th Floor, Washington, DC 20202-4700. Requests may also be electronically mailed to the Internet address OCIO_RIMG@ed.gov or faxed to 202-245-6623. Please specify the complete title of the information collection when making your request.

Comments regarding burden and/or the collection activity requirements should be directed to Joseph Schubart at his e-mail address Joe.Schubart@ed.gov. Individuals who use a telecommunications device for the deaf (TDD) may call the Federal Information Relay Service (FIRS) at 1-800-877-8339.

[FR Doc. 05-14115 Filed 7-18-05; 8:45 am]

BILLING CODE 4000-01-U